DEPARTMENT OF COMMERCE

Submission for OMB Review; Comment Request

The Department of Commerce has submitted to the Office of Management and Budget (OMB) for clearance the following proposal for collection of information under the provisions of the Paperwork Reduction Act (44 U.S.C. chapter 35).

Agency: U.S. Census Bureau.

Title: Current Population Survey, October 2003 School Enrollment and Computer Use Supplement.

Form Number(s): None. All interviewing is done in person or over the telephone using laptop computers and an automated survey instrument.

OMB Approval Number: 0607-0464.

Type of Review: Regular submission.

Burden Hours: 11,400.

Number of Respondents: 57,000.

Average Hours Per Response: 12 minutes.

Needs and Uses: The purpose of this request for review is to obtain clearance for the supplemental inquiry concerning school enrollment and computer use to be conducted in conjunction with the October 2003 Current Population Survey (CPS). The school enrollment supplement is the only source of National data on the age distribution and family characteristics of college students and the only source of demographic data on pre-primary school enrollment. As part of the federal government's efforts to collect data and provide timely information to local governments for policy-making decisions, the survey provides National trends in enrollment and progress in school. The Computer Use Supplement will provide a source of National and state level data on the demographic, social, and economic characteristics of Internet users and non-users. The development of statistical profiles of disadvantaged groups will permit public-private partnerships to target assistance to those that are most in need. It will provide information on where users access the Internet (at home, work, school, or other facility), the features used, and the reasons for non-use of the Internet. The data from this supplement will provide policy-relevant information on the U.S. population's access to, and use of, these technologies. Such information is essential for tracking the rapidly changing trends, understanding the nature of the changes, and planning policies and programs that will help make information technologies even more accessible across demographic groups and geographic regions.

Affected Public: Individuals or households.

Frequency: Annually.

Respondent's Obligation: Voluntary.

Legal Authority: Title 13 U.S.C., Section 182 and Title 29 U.S.C., Sections 1-9.

OMB Desk Officer: Susan Schechter, (202) 395-5103.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 15, 2003.
Gwellnar Banks,
Management Analyst, Office of the Chief Information Officer.

[FR Doc. 03-18408 Filed 7-18-03; 8:45 am]

BILLING CODE 3510-07-P